FEDERAL COMMUNICATIONS COMMISSION

47 CFR Part 76

[FCC 05-81]

Implementation of the Satellite Home Viewer Extension and Reauthorization Act (SHVERA)

AGENCY: Federal Communications Commission.

ACTION: Final rule; announcement of effective date.

SUMMARY: The Federal Communications Commission received Office of Management and Budget (OMB) approval for the revised public information collection, OMB Control Number 3060-0980, Implementation of the Satellite Home Viewer Extension and Reauthorization Act of 2004, Procedural Rules, FCC 05-81. FCC 05-81 was published at 70 FR 21669, April 27, 2005. Therefore, the Commission announces that 47 CFR 76.66(d)(2) and (d)(5) will become effective on August 15, 2005.

DATES: The amendments to 47 CFR 76.66 (d)(2) and (d)(5) published at 70 FR 21669, April 27, 2005, will become effective on August 15, 2005.

FOR FURTHER INFORMATION CONTACT: Kenneth Lewis, Media Bureau, (202) 418-2622 or kenneth.lewis@fcc.gov. Questions concerning OMB control number 3060-0980 and the expiration date of the information collection should be directed to Cathy Williams, Federal Communications Commission, (202) 418-2918 or via the Internet at cathy.williams@fcc.gov.

SUPPLEMENTARY INFORMATION: The Federal Communications Commission has received OMB approval for the revised information collection, OMB Control Number 3060-0980, Implementation of the Satellite Home Viewer Extension and Reauthorization Act of 2004, Procedural Rules, FCC 05-81. FCC 05-81, Procedural Rules, which revises the local into local notification rule and creates the new rule for elections in markets in which significantly viewed signals are carried, were published in 70 FR 21669, April 27, 2005. Through this document, the Commission announces that OMB approval for OMB Control Number 3060-0980 was received on June 14, 2005 and was published at 70 FR 41735, July 20, 2005. The effective date for the rules in 47 CFR 76.66(d)(2) and (d)(5) is August 15, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act that does not display a valid control number.

Federal Communications Commission.
Marlene H. Dortch,
Secretary.

[FR Doc. 05-16388 Filed 8-16-05; 8:45 am]

BILLING CODE 6712-01-P